DEPARTMENT OF ENERGY

Federal Energy Regulatory Commission

Combined Notice of Filings #2

Take notice that the Commission received the following electric rate filings:

Docket Numbers: ER13-198-005.

Applicants: PJM Interconnection, L.L.C.

Description: Compliance filing per 35: Compliance Filing per 9/12/2014 Order—Designated Entity Agreement to be effective 1/1/2014.

Filed Date: 10/14/14.

Accession Number: 20141014-5386.

Comments Due: 5 p.m. ET 11/4/14.

Docket Numbers: ER14-2426-001.

Applicants: PJM Interconnection, L.L.C.

Description: Compliance filing per 35: Compliance Filing per 9/12/2014 Order—Interconnection Coordination Agreement to be effective 9/13/2014.

Filed Date: 10/14/14.

Accession Number: 20141014-5387.

Comments Due: 5 p.m. ET 11/4/14.

Docket Numbers: ER15-61-000.

Applicants: PJM Interconnection, L.L.C., American Transmission Systems, Incorporation.

Description: Report Filing: Amendment to Compliance Filing under ER15-61-000 for Informational Purposes to be effective N/A.

Filed Date: 10/14/14.

Accession Number: 20141014-5425.

Comments Due: 5 p.m. ET 11/4/14.

Docket Numbers: ER15-81-000.

Applicants: Union Power Partners, L.P.

Description: § 205(d) rate filing per 35.13(a)(2)(iii): Revised Rate Schedule FERC No. 2 to be effective 1/1/2015.

Filed Date: 10/14/14.

Accession Number: 20141014-5382.

Comments Due: 5 p.m. ET 11/4/14.

Docket Numbers: ER15-82-000.

Applicants: Florida Power & Light Company.

Description: § 205(d) rate filing per 35.13(a)(2)(iii): FPL Simultaneous Submission Window Revisions to be effective 10/15/2014.

Filed Date: 10/14/14.

Accession Number: 20141014-5404.

Comments Due: 5 p.m. ET 11/4/14.

Docket Numbers: ER15-83-000.

Applicants: TransCanada Power Marketing Ltd.

Description: § 205(d) rate filing per 35.13(a)(2)(iii): TCPM October 14 2014 Compliance Filing to be effective 10/15/2014.

Filed Date: 10/14/14.

Accession Number: 20141014-5432.

Comments Due: 5 p.m. ET 11/4/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2014.
Nathaniel J. Davis, Sr.,
Deputy Secretary.

[FR Doc. 2014-25062 Filed 10-21-14; 8:45 am]

BILLING CODE 6717-01-P